INTERNATIONAL TRADE COMMISSION

[Investigation Nos. 701-TA-531-533 and 731-TA-1270-1273 (Final)]

Polyethylene Terephthalate (PET) Resin From Canada, China, India, and Oman; Revised Schedule for Hearing in Final Investigations

AGENCY: United States International Trade Commission.

ACTION: Notice.

DATES: Effective Date: January 21, 2016.

FOR FURTHER INFORMATION CONTACT: Joanna Lo (202-205-1888), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: On October 15, 2015, the Commission established a schedule for conducting the final phase of investigations on polyethylene terephthalate (PET) resin from Canada, China, India, and Oman (80 FR 68563, November 5, 2015). The Commission is revising its schedule by changing the time of the hearing.

The Commission's new schedule for the hearing in these investigations is as follows: The hearing will be held at the U.S. International Trade Commission Building at 10:30 a.m. on March 1, 2016. All other aspects of the schedule remain unchanged.

For further information concerning these investigations see the Commission's notice cited above.

Authority: These investigations are being conducted under authority of title VII of the Tariff Act of 1930; this notice is published pursuant to section 207.21 of the Commission's rules.

By order of the Commission.
Issued: January 28, 2016.
Lisa R. Barton,
Secretary to the Commission.

[FR Doc. 2016-01901 Filed 2-2-16; 8:45 am]

BILLING CODE 7020-02-P